NATIONAL AERONAUTICS AND SPACE ADMINISTRATION

[Notice 02-003]

Notice of Prospective Copyright License

AGENCY: National Aeronautics and Space Administration.

ACTION: Notice of Prospective Patent License.

SUMMARY: NASA hereby gives notice that Maecker and Company, MakerToys Division of Silver Creek, New York, has applied for an exclusive copyright license to ARC-14263, “Exploring Aeronautics Multimedia CD-ROM,” which is assigned to the United States of America as represented by the Administrator of the National Aeronautics and Space Administration. Written objections to the prospective grant of a license should be sent to Ames Research Center.

DATES: Responses to this notice must be received by March 18, 2002.

FOR FURTHER INFORMATION CONTACT: Robert Padilla, Patent Counsel, NASA Ames Research Center, Mail Stop 202A-3, Moffett Field, CA 94035-1000, (650) 605-5104.

Dated: January, 4, 2002.
Robert M. Stephens,
Deputy General Counsel.

[FR Doc. 02-1020 Filed 1-15-02; 8:45 am]

BILLING CODE 7510-01-P